DEPARTMENT OF THE INTERIOR

Bureau of Land Management

[LLCO921000-L13200000-EL0000, COC-76319]

Notice of Invitation To Participate; Coal Exploration License Application COC-76319, CO

AGENCY: Bureau of Land Management, Interior.

ACTION: Notice of invitation.

SUMMARY: Members of the public are hereby invited to participate with Oxbow Mining Oak Mesa, LLC, on a pro rata cost-sharing basis in a program for the exploration of coal deposits owned by the United States of America in lands located in Delta County, Colorado, encompassing 1,286.95 acres.

DATES: A Notice of Invitation was also published in the Delta County Independent, once each week for 2 consecutive weeks beginning the week of September 25, 2013. Any party seeking to participate in this exploration program must send written notice to both Oxbow Mining Oak Mesa, LLC, and the Bureau of Land Management (BLM) as provided in the ADDRESSES section below no later than July 10, 2014 or 10 calendar days after the last publication of this notice in the Delta County Independent newspaper, whichever is later. Such written notice must refer to serial number COC-76319.

ADDRESSES: The proposed exploration license and plan are available for review from 9 a.m. to 4 p.m., Monday through Friday, at the BLM Colorado State Office, 2850 Youngfield Street, Lakewood, Colorado, and the BLM Uncompahgre Field Office, 2465 South Townsend Avenue, Montrose, Colorado. A written notice to participate in the exploration licenses should be sent to the State Director, BLM Colorado State Office, 2850 Youngfield Street, Lakewood, CO 80215 and Oxbow Mining Oak Mesa, LLC, Attn: Steve D. Weist, P.O. Box 535, Somerset, CO 81434.

FOR FURTHER INFORMATION CONTACT: Kyle Free by telephone at 303-239-3774 or by email at kfree@blm.gov; or Desty Dyer by telephone at 970-240-5302 or by email at ddyer@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the resources. The exploration program is fully described and will be conducted pursuant to an exploration license and plan approved by the BLM. The exploration plan may be modified to accommodate the legitimate exploration needs of persons seeking to participate.

The lands to be explored for coal deposits in exploration license COC-76319 are described as follows:

Sixth Principal Meridian, Colorado

T. 13 S., R. 92 W.,

Sec. 6, Lots 12-23, inclusive;

Sec. 7, Lots 6-11, inclusive.

T. 13 S., R. 93 W.,

Sec. 1, Lots 18-20;

Sec. 12, Lots 1-3, and 6-8.

These lands contain 1,286.95 acres, more or less.

The Federal coal within the lands described for exploration license COC-76319 is currently unleased for development of Federal coal reserves.

Ruth Welch,
BLM Colorado State Director.

[FR Doc. 2014-13511 Filed 6-9-14; 8:45 am]

BILLING CODE 4310-JB-P